DEPARTMENT OF HEALTH AND HUMAN SERVICES

Health Resources and Services Administration

Advisory Council; Notice of Meeting

In accordance with section 10(a)(2) of the Federal Advisory Committee Act (Pub. L. 92-463), announcement is made of the following National Advisory body scheduled to meet during the month of November 2001.

Name: National Advisory Council on Nurse Education and Practice.

Date and Time: November 8, 2001; 8:30 a.m.-5 p.m., November 9, 2001; 8:30 a.m.-3 p.m.

Place: Hotel Washington, Pennsylvania Avenue, NW., at 15th St., Washington, DC 20004.

The meeting is open to the public.

Agenda: Department, Agency, Bureau and Division administrative updates; discussion of Council administrative procedures and selection of next co-chair; strategic plan review and update; identification of priorities for future work, including continued discussion of nursing shortage and other critical issues impacting nursing education and practice; workgroup breakout sessions to address work to be accomplished.

Anyone interested in obtaining a roster of members, minutes of the meeting, or other relevant information should write or contact Ms. Elaine G. Cohen, Executive Secretary, National Advisory Council on Nurse Education and Practice, Parklawn Building, Room 9-35, 5600 Fishers Lane, Rockville, Maryland 20857, telephone (301) 443-1405.

Dated: October 15, 2001.
Jane M. Harrison,
Director, Division of Policy Review and Coordination.

[FR Doc. 01-26316 Filed 10-18-01; 8:45 am]

BILLING CODE 4165-15-P